DEPARTMENT OF HEALTH AND HUMAN SERVICES

Administration for Children and Families

Submission for OMB Review; Strengthening Relationship Education and Marriage Services (STREAMS) Evaluation (OMB#0970-0481)

AGENCY: Office of Planning, Research, and Evaluation; Administration for Children and Families; HHS.

ACTION: Request for public comment.

SUMMARY: The Office of Family Assistance (OFA) within the Administration for Children and Families (ACF) at the U.S. Department of Health and Human Services has issued grants to organizations to provide healthy marriage and relationship education (HMRE) services. Under a previously approved data collection activity (OMB#0970-0481), the Office of Planning, Research, and Evaluation (OPRE) within ACF is conducting the Strengthening Relationship Education and Marriage Services (STREAMS) evaluation with five HMRE grantees. The purpose of STREAMS is to measure the effectiveness and quality of HMRE programs designed to strengthen intimate relationships. This data collection request is for an extension of previously approved data collection instruments and for two additional data collection instruments.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION:

Description: The STREAMS evaluation includes two components, an impact study and a process study. The evaluation will examine HMRE programs for youth in high school, adult couples, and adult individuals.

1. Impact Study. The goal of the impact study is to provide rigorous estimates of the effectiveness of program services and interventions to improve program implementation. The impact study uses an experimental design. Eligible program applicants are randomly assigned to either a program group that is offered program services or a control group that is not. STREAMS collects baseline information from eligible program applicants prior to random assignment and administers a follow-up survey to participants 12 months after random assignment.

2. Process study. The goal of the process study is to support the interpretation of impact findings and document program operations to support future replication. STREAMS conducts semi-structured interviews with program staff and selected community stakeholders, conducts focus groups with program participants, administers a survey to program staff, and collects data on adherence to program curricula through an add on to an existing program MIS (nFORM, OMB no. 0970-0460).

This data collection request is for an extension of previously approved data collection instruments for the impact study and for two additional data collection instruments associated with the impact study. The two additional instruments will allow for longer-term follow-up in two of the five evaluation sites. (1) The second follow-up survey for youth will be administered approximately 24 to 36 months after random assignment to study participants in the STREAMS site serving youth. (2) The second follow-up survey for adults will be administered approximately 30 months after random assignment to study participants in one of the STREAMS evaluation sites serving adults.

Respondents: Study participants.

Annual Burden Estimates
Instrument | Total number of respondents | Annual number of respondents | Number of responses per respondent | Average burden hours per response | Annual burden hours
Previously Approved Burden that Remains
Introductory script, grantee staff | 8 | 8 | 25 | 0.08 | 16
Introductory script, program applicants | 600 | 200 | 1 | 0.08 | 16
Add-on to nFORM to conduct random assignment | 8 | 8 | 25 | 0.08 | 16
Follow-up survey for youth | 690 | 230 | 1 | 0.5 | 115
Baseline survey for adults | 600 | 200 | 1 | 0.5 | 100
Follow-up survey for adults | 2,300 | 767 | 1 | 0.75 | 575
Current Request for Approval
Second follow-up survey for youth | 1,500 | 500 | 1 | 0.5 | 250
Second follow-up survey for adults | 800 | 267 | 1 | 0.75 | 200

Estimated Total Annual Burden Hours: 1,288.

Authority: 42 U.S.C. 603; Sec. 811 (b) Healthy Marriage Promotion and Promoting Responsible Fatherhood Grants of the Claims Resolution Act of 2010, Pub. L. 111-291, 124 Stat. 3064.

Mary B. Jones,
ACF/OPRE Certifying Officer.

[FR Doc. 2019-02693 Filed 2-15-19; 8:45 am]

BILLING CODE 4184-73-P